DEPARTMENT OF HEALTH AND HUMAN SERVICES

Administration for Children and Families

Proposed Information Collection Activity; Comment Request

Proposed Projects: Office of Child Care CCDF Onsite Monitoring.

Title: Child Care and Development Fund (CCDF) State Monitoring Compliance Demonstration Packet.

OMB No.: New.

Description: The proposed data collection form is designed as part of the evidence collection process of the Onsite Monitoring system and provides states with an opportunity to propose how they, as block-grant recipients, will choose to demonstrate compliance.

Respondents: 51 States and Territories triennially.

Annual Burden Estimates
Instrument | Number of respondents | Number of responses per respondent | Average burden hours per response | Total burden hours
Compliance Demonstration Chart | 17 | 1 | 16 | 272
Document Submission Chart | 17 | 1 | 80 | 1,360

Estimated Total Annual Burden Hours: 1,632 hours.

In compliance with the requirements of the Paperwork Reduction Act of 1995 (Pub. L. 104-13, 44 U.S.C. Chap 35), the Administration for Children and Families is soliciting public comment on the specific aspects of the information collection described above. Copies of the proposed collection of information can be obtained and comments may be forwarded by writing to the Administration for Children and Families, Office of Planning, Research and Evaluation, 330 C Street SW, Washington, DC 20201. Attn: ACF Reports Clearance Officer. Email address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Robert A. Sargis,
Reports Clearance Officer.

[FR Doc. 2018-23225 Filed 10-23-18; 8:45 am]

BILLING CODE 4184-43-P